DEPARTMENT OF TRANSPORTATION

Federal Railroad Administration

[Docket Number FRA-1999-6253]

Petition for Waiver of Compliance

Under part 211 of title 49 Code of Federal Regulations (CFR), this document provides the public notice that on October 31, 2019, the Utah Transit Authority (UTA) petitioned the Federal Railroad Administration (FRA) for a waiver of compliance from certain provisions of the Federal railroad safety regulations contained at 49 CFR parts 210, 217, 218, 219, 220, 221, 222, 223, 225, 228, 229, 231, 234, 238, 239, 240, 242, and 243. FRA assigned the petition Docket Number FRA-1999-6253.

UTA, operator of the rail fixed guideway public transit system TRAX in Salt Lake City, Utah, seeks an extension of the terms and conditions of its current shared use waiver of compliance. TRAX is operated with temporal separation on track owned by UTA and shared partially with Utah Railway Company and Savage Bingham & Garfield Railroad Company freight trains dispatched by UTA. FRA granted the original shared use waiver on August 19, 1999, for the North-South line, modified on March 25, 2011, to include a portion of the Mid-Jordan extension with its additional Siemens S70 rolling stock (77 vehicles). In 2015, FRA renewed the previous waivers, granted relief from additional parts of the CFR, and approved the change of shared use milepost limits on the North-South Line to reflect the cessation of freight service south of 6100 South as part of the transit-exclusive Draper Extension.

Specifically, UTA requests FRA extend the regulatory relief in this docket, noting it has recently retired and disposed of 29 Urban Transportation Development Corporation (UTDC) vehicles acquired from the Santa Clara Valley Transportation Authority. Also, UTA is now requesting relief from part 243 for its light rail operators, supervisors, controller supervisors, and light rail rolling stock maintenance employees because training of these employees is already addressed by the existing Utah Department of Transportation State Safety Oversight Agency program certified by the Federal Transit Administration. UTA Track/Signal and Train Control maintenance-of-way employees will comply with part 243 because these employees also perform work on FRA-compliant Frontrunner commuter service.

UTA states it will adopt specific policies and procedures that will provide a level of safety equivalent to that provided by full compliance with FRA regulations. Also, UTA states that “unlike some light rail systems operating under a shared use waiver, UTA owns the entirety of the TRAX system and corridor, providing it control of the entry of freight trains on the TRAX system.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by December 30, 2019 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-24749 Filed 11-13-19; 8:45 am]

BILLING CODE 4910-06-P